DEPARTMENT OF THE TREASURY

Submission for OMB Review; Comment Request

April 13, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 21, 2001 to be assured of consideration.

Internal Revenue Service (IRS)

OMB Number: 1545-1578.

Regulation Project Number: REG-106542-98 NPRM, Revenue Procedure 98-13.

Type of Review: Extension.

Title: Election to Treat Trust as Part of an Estate.

Description: REG-106542-98 and Revenue Procedure 98-13 relate to an election to have certain revocable trusts treated and taxed as part of an estate, and provides the procedures and requirements for making the section 645 election.

Respondents: Individuals or households.

Estimated Number of Respondents: 10,000.

Estimated Burden Hours Per Respondents: 30 minutes.

Frequency of Response: Other (Once).

Estimated Total Reporting Burden: 5,000 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Mary A. Able,
Departmental Reports Management Officer.

[FR Doc. 01-9863 Filed 4-19-01; 8:45 am]

BILLING CODE 4830-01-P